DEPARTMENT OF COMMERCE

National Oceanic and Atmospheric Administration

50 CFR Part 223

[I.D. 031006D]

Endangered and Threatened Species: Notice of Public Hearing on Proposed Listing Determination for Puget Sound Steelhead

AGENCY: National Marine Fisheries Service (NMFS), National Oceanic and Atmospheric Administration (NOAA), Commerce.

ACTION: Notice of public hearing.

SUMMARY: On March 29, 2006, we (NMFS) proposed to list steelhead (Oncorhynchus mykiss) populations in Puget Sound (Washington) as threatened under the Endangered Species Act (ESA). In this notice we are announcing a public hearing to be held in Seattle (Washington) on June 22, 2006, regarding the subject proposal.

DATES: Written comments on the proposed listing determination must be received by June 27, 2006. See SUPPLEMENTARY INFORMATION for the public meeting time and location.

ADDRESSES: You may submit comments on the proposed listing determination for Puget Sound steelhead by any of the following methods. Please identify submittals as pertaining to the “Puget Sound Steelhead Proposed Listing.”

• E-mail: PS.Steelhead.nwr@noaa.gov. Include “Puget Sound Steelhead Proposed Listing” in the subject line of the message.

• Internet: Comments may also be submitted electronically through the Federal e-Rulemaking portal at: http://www.regulations.gov.

• Mail: Submit written comments and information to Chief, NMFS, Protected Resources Division, 1201 NE Lloyd Boulevard, Suite 1100, Portland, OR 97232. You may hand-deliver written comments to our office during normal business hours at the street address given above.

• Hand Delivery/Courier: NMFS, Protected Resources 1201 NE Lloyd Boulevard, Suite 1100, Portland, OR 97232.

• Fax: 503-230-5441

FOR FURTHER INFORMATION CONTACT: For further information regarding the public meeting is available on the Internet at: http://www.nwr.noaa.gov. Alternatively, you may contact Dr. Scott Rumsey, NMFS, Northwest Region, (503) 872-2791, or Marta Nammack, NMFS, Office of Protected Resources, (301) 713-1401.

SUPPLEMENTARY INFORMATION:

Background

On March 29, 2006, we published a proposed threatened determination for Puget Sound steelhead (71 FR 15666). Joint Commerce-Interior ESA implementing regulations state that the Secretary shall promptly hold at least one public hearing if any person requests one within 45 days of publication of a proposed regulation to list a species or to designate critical habitat (see 50 CFR 424.16(c)(3)). In this notice we are announcing a public meeting regarding the Puget Sound steelhead proposed threatened listing to be held in Seattle (Washington) on June 22, 2006.

This public meeting is not the only opportunity for the public to provide input on this proposal. As part of the proposed threatened listing for Puget Sound steelhead, we announced a public comment period extending through June 27, 2006. The public and stakeholders are encouraged to continue to comment and provide additional information on the proposals (see ADDRESSES, above) up until the close of the comment period.

Meeting Format

In our recent updated ESA listing determinations for West Coast salmon and steelhead (70 FR 37160, June 28, 2005; and 71 FR 834, January 5, 2006), we employed a new “open house” approach to conducting public hearings. This new approach proved successful in allowing all interested members of the public to more effectively engage in the rulemaking process. We will be employing the open house format, described further below, for the Puget Sound steelhead public meeting in Seattle on June 22, 2006.

The open house format provides the general public with an opportunity to meet with NMFS staff in small groups on specific topics in order to learn more about the proposal and its possible impacts on their communities. This evening meeting will also provide any interested individuals with the opportunity to make formal recorded comments on the proposal. In addition, blank “comment sheets” will be provided at the evening meeting for those without prepared written comments. The preferred means of providing public comment for the official record, however, is via written testimony.

The meeting will be held in the evening from 6:30 p.m to 9:30 p.m. For those who are interested, there will be a brief introductory presentation at 6:30 p.m. regarding the Puget Sound steelhead proposal and the ESA rulemaking process. After the introductory remarks, attendees can move freely from “station” to “station” to discuss items of particular interest with knowledgeable NMFS staff. We believe that this format is respectful of the public's valuable time, allowing busy community members to participate without necessarily attending the entire evening. There is no need to register; just drop in anytime during the course of the evening event.

Meeting Time & Location

The public meeting regarding the Puget Sound steelhead proposed threatened listing will be held from 6:30 p.m. to 9:30 p.m., June 22, 2006, at the Radisson Hotel (SeaTac Airport), 18118 International Blvd., Seattle WA 98188. Directions to the meeting location can be obtained on the Internet at http://www.nwr.noaa.gov.

References

Copies of the Federal Register notices and related materials cited in this document are available on the Internet at http://www.nwr.noaa.gov or upon request (see ADDRESSES section above).

Authority: 16 U.S.C. 1531 et seq.

Dated: May 10, 2006.
Angela Somma,
Acting Director, Office of Protected Resources, National Marine Fisheries Service.

[FR Doc. E6-7430 Filed 5-15-06; 8:45 am]

BILLING CODE 3510-22-S